DEPARTMENT OF THE INTERIOR

Bureau of Ocean Energy Management

[OMB Control Number 1010-0106]

Information Collection: Oil Spill Financial Responsibility for Offshore Facilities; Proposed Collection for OMB Review; Comment Request MMAA104000

ACTION: 60-day notice.

SUMMARY: To comply with the Paperwork Reduction Act of 1995 (PRA), the Bureau of Ocean Energy Management (BOEM) is inviting comments on a collection of information that we will submit to the Office of Management and Budget (OMB) for review and approval. The information collection request (ICR) concerns the paperwork requirements for 30 CFR 553, Oil Spill Financial Responsibility for Offshore Facilities.

DATES: Submit written comments by July 1, 2013.

ADDRESSES: Please send your comments on this ICR to the BOEM Information Collection Clearance Officer, Arlene Bajusz, Bureau of Ocean Energy Management, 381 Elden Street, HM-3127, Herndon, Virginia 20170 (mail); or arlene.bajusz@boem.gov (email); or 703-787-1209 (fax). Please reference ICR 1010-0106 in your comment and include your name and return address.

FOR FURTHER INFORMATION CONTACT: Arlene Bajusz, Office of Policy, Regulations, and Analysis at (703) 787-1025 to request additional information about this ICR.

SUPPLEMENTARY INFORMATION:

OMB Control Number: 1010-0106.

Title: 30 CFR Part 553, Oil Spill Financial Responsibility for Offshore Facilities.

Forms: BOEM-1016, 1017, 1018, 1019, 1020, 1021, and 1022.

Abstract: This information collection request addresses the regulations at 30 CFR part 553, Oil Spill Financial Responsibility (OSFR) for Offshore Facilities, including any supplementary notices to lessees and operators that provide clarification, description, or explanation of these regulations, and forms BOEM-1016 through BOEM-1022.

The BOEM uses the information collected under 30 CFR part 553 to verify compliance with section 1016 of the Oil Pollution Act. The information is necessary to confirm that applicants can pay for cleanup and damages from oil-spill discharges from Covered Offshore Facilities (COFs).

We will protect information from respondents considered proprietary under the Freedom of Information Act (5 U.S.C. 552) and its implementing regulations (43 CFR part 2) and under regulations at 30 CFR 550.197, “Data and information to be made available to the public or for limited inspection.” No items of a sensitive nature are collected. Responses are mandatory.

Frequency: On occasion or annual.

Description of Respondents: Holders of leases, permits, and rights of use and easement in the Outer Continental Shelf and in State coastal waters who will appoint designated applicants. Other respondents will be the designated applicants' insurance agents and brokers, bonding companies, and indemnitors. Some respondents may also be claimants.

Estimated Reporting and Recordkeeping Hour Burden: The currently approved annual reporting burden for this collection is 21,319 hours. The following table details the individual components and respective hour burden estimates of this ICR.

Citation 30 CFR 553 | Reporting requirement* | Hour burden
Various sections | The burdens for all references to submitting evidence of OSFR, as well as required or supporting information, are covered with the forms below | 0
Applicability and Amount of OSFR
11(a)(1); 40; 41 | Form BOEM-1016—Designated Applicant Information Certification | 1
11(a)(1); 40; 41 | Form BOEM-1017—Designation of Applicant | 9
12 | Request for determination of OSFR applicability. Provide required and supporting information | 2
15 | Notify BOEM of change in ability to comply | 1
15(f) | Provide claimant written explanation of denial | 1
Methods for Demonstrating OSFR
21; 22; 23; 24; 26; 27; 30; 40; 41; 43 | Form BOEM-1018—Self-Insurance or Indemnity Information, including renewals | 1
29; 40; 41; 43 | Form BOEM-1019—Insurance Certificate | 120
31; 40; 41; 43 | Form BOEM-1020—Surety Bond | 24
32 | Proposal and supporting information for alternative method to evidence OSFR (anticipate no proposals, but regulations provide the opportunity) | 120
Requirements for Submitting OSFR Information
40; 41; 43 | Form BOEM-1021—Covered Offshore Facilities | 3
40; 41; 42 | Form BOEM-1022—Covered Offshore Facility Changes | 1
Claims for Oil-Spill Removal Costs and Damages
Subpart F | Claims: BOEM is not involved in the claims process. Assessment of burden for claims against the Oil Spill Liability Trust Fund (30 CFR parts 125, 136, 137) falls under the responsibility of the U.S. Coast Guard | 0
60(d) | Claimant request for BOEM assistance to determine whether a guarantor may be liable for a claim | 2
* In the future, BOEM may require electronic filing of certain submissions.

Estimated Reporting and Recordkeeping Non-Hour Cost Burden: We have identified no reporting and recordkeeping non-hour cost burdens for this collection.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “. . . to provide notice . . . and otherwise consult with members of the public and affected agencies concerning each proposed collection of information . . .” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

Agencies must also estimate the non-hour cost burdens to respondents or recordkeepers resulting from the collection of information. Therefore, if you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (i) Before October 1, 1995; (ii) to comply with requirements not associated with the information collection; (iii) for reasons other than to provide information or keep records for the Government; or (iv) as part of customary and usual business or private practices.

We will summarize written responses to this notice and address them in our submission for OMB approval. As a result of your comments, we will make any necessary adjustments to the burden in our submission to OMB.

Public Availability of Comments: Before including your address, phone number, email address, or other personal identifying information in your comment, you should be aware that your entire comment—including your personal identifying information—may be made publicly available at any time. While you can ask us in your comment to withhold your personal identifying information from public review, we cannot guarantee that we will be able to do so.

Dated: February 20, 2013.
Deanna Meyer-Pietruszka,
Chief, Office of Policy, Regulations, and Analysis.

[FR Doc. 2013-10309 Filed 4-30-13; 8:45 am]

BILLING CODE 4310-MR-P